DEPARTMENT OF ENERGY

Agency Information Collection Extension

AGENCY: Department of Energy.

ACTION: Notice and request for comments.

SUMMARY: The Department of Energy (DOE), pursuant to the Paperwork Reduction Act of 1995, intends to extend for three years the information collection packages listed at the end of this notice. Comments are invited on: (a) Whether the extended information collections are necessary for the proper performance of the functions of the agency, including whether the information has practical utility; (b) the accuracy of the agency's estimate of the burden of the information collections, including the validity of the methodology and assumptions used; (c) ways to enhance the quality, utility, and clarity of the information to be collected; and (d) ways to minimize the burden of the information collections on respondents, including through the use of automated collection techniques or other forms of information technology.

Comments submitted in response to this notice will be summarized and included in the request for Office of Management and Budget review and approval of these information collections; they also will become a matter of public record.

DATES: Comments regarding these proposed information collections must be received on or before January 16, 2007. If you anticipate difficulty in submitting comments within that period, contact the person listed below as soon as possible.

ADDRESSES: Written comments may be sent to: Jeffrey Martus, IM-11/Germantown Building, U.S. Department of Energy, 1000 Independence Ave SW., Washington, DC 20585-1290.

or by fax at 301-903-9061 or by e-mail at Jeffrey.martus@hq.doe.gov.

FOR FURTHER INFORMATION CONTACT: Requests for additional information or copies of the information collection instrument and instructions should be directed to Jeffrey Martus at the address listed above in ADDRESSES.

SUPPLEMENTARY INFORMATION: The information collection packages listed in this notice for public comment include the following:

1. (1) OMB No.: 1910-1400. (2) Package Title: Compliance Statement: Energy/Water Conservation Standards for Appliances. (3) Type of Review: Renewal. (4) Purpose: This information collection provides the Department with the information from manufacturers necessary for verifying that products covered under the Energy Policy and Conservation Act comply with required energy and water conservation standards prior to distribution. (5) Respondents: 48. (6) Estimated Number of Burden Hours: 1,347.

2. (1) OMB No.: 1910-5124. (2) Package Title: Hydrogen, Fuel Cells, and Infrastructure Technologies Program Baseline Knowledge Assessment. (3) Type of Review: Renewal. (4) Purpose: This information is necessary to assess the current knowledge and opinions of the general public concerning hydrogen, fuel cells, and the hydrogen economy. (5) Respondents: 5,495. (6) Estimated Burden Hours: 816.

3. (1) OMB No.: 1910-5125. (2) Package Title: Work for Others by DOE Management and Operating Contractors. (3) Type of Review: Renewal. (4) Purpose: This collection is required by the Department to ensure that programmatic and administrative management requirements and resources are managed efficiently and effectively. (5) Respondents: 20. (6) Estimated Number of Burden Hours: 100.

4. (1) OMB No.: 1910-5115. (2) Package Title: Contractor Legal Requirements. (3) Type of Review: Renewal. (4) Purpose: This collection is necessary to provide a basis for DOE decisions on requests from applicable contractors for reimbursement of litigation and other legal expenses. (5) Respondents: 36. (6) Estimated Number of Burden Hours: 515.

Statutory Authority: Department of Energy Organization Act, Public Law 95-91.

Issued in Washington, DC on November 8, 2006.
Lorretta D. Bryant,
Acting Director, Records Management Division, Office of the Chief Information Officer.

[FR Doc. E6-19476 Filed 11-16-06; 8:45 am]

BILLING CODE 6450-01-P